DEPARTMENT OF ENERGY

Federal Energy Regulatory Commission

[Docket No. ER01-2115-000, Docket Nos. ER01-2192-000 and EL01-85-000, Docket No. ER01-2223-000, Docket No. ER01-2329-000, and Docket No. RT01-99-000]

New England Power Pool., ISO New England, Inc., New England Power Pool, New England Power Pool ISO New England, Inc., Regional Transmission Organizations; Notice Shortening Answer Period

August 20, 2001.

On August 17, 2001, ISO New England Inc. (ISO New England) filed a Request for Clarification (Request) in response to the Commission's Order on Standard Market Design issued July 25, 2001, in the above-docketed proceeding. ISO New England's filing also requested expedited consideration of its Request. By this notice, the period for the filing of answers to ISO New England's Request is hereby shortened to and including August 27, 2001.

David P. Boergers,
Secretary.

[FR Doc. 01-21374 Filed 8-23-01; 8:45 am]

BILLING CODE 6717-01-P